DEPARTMENT OF THE INTERIOR

Bureau of Land Management

[NM-070-1430-EU; NMNM-108570]

Notice of Realty Action: Notice of Direct Land Sale of Public Land, New Mexico

AGENCY: Bureau of Land Management, Department of the Interior.

ACTION: Notice.

SUMMARY: The following described lands have been determined suitable for disposal by direct sale under Section 203 of the Federal Land Policy and Management Act (FLPMA) of 1976 (43 U.S.C. 1713):

New Mexico Principal Meridian, New Mexico

T. 29 N., R. 11 W.,

Sec. 3: Lot 1.

Containing 0.52 acres of public land.

EFFECTIVE DATE: Comments must be received by October 28, 2002.

ADDRESSES: Interested parties may submit comments regarding the proposed direct sale to the Bureau of Land Management. Farmington Field Manager, 1235 La Plata Highway, Farmington, NM 87401.

FOR FURTHER INFORMATION CONTACT: Mary Jo Albin, Bureau of Land Management, Farmington Field Office, 1235 La Plata Highway, Farmington, NM 87401, 505-599-6332.

SUPPLEMENTARY INFORMATION: The public lands have been found suitable for disposal for direct sale and will be sold to Charles and Joan Eavenson pursuant to Section 203 of FLPMA, at no less than fair market value.

The sale will be for the purpose of resolving an unauthorized use of public lands due to an error made in a private survey prior to the Eavensons purchase of the land. The error was discovered when the New Mexico State Highway and Transportation Department (Highway) had a survey done to upgrade Highway 550 to four lanes. The Bureau of Land Management did a cadastral survey to verify the unauthorized use of public land. The Eavensons have constructed a commercial building, set up a mobile home and landscaped the yard surrounding the mobile home, and built a pole barn on the property. The disposal is deemed necessary to allow the Eavensons the legal use of the property and avoid having to remove the improvements. The disposal is consistent with the Bureau's planning efforts, State and local government programs, and applicable regulations. The land has been examined and is suitable for disposal by direct sale pursuant to Section 203 of the FLPMA of 1976 (43 U.S.C. 1713). The direct sale will be subject to:

1. A reservation to the United States of a right-of-way for ditches or canals constructed by the authority of the United States in accordance with the Act of August 30, 1890 (43 U.S.C. 945).

2. All minerals shall be reserved to the United States, together with the right to mine and to remove the minerals, under applicable laws and regulations to be established by the Secretary of the Interior. A more detailed description of this reservation, which will be incorporated in the document of conveyance.

Publication of this notice in the Federal Register will segregate the public land from settlement, location and entry under the public land laws including the mining laws but not from sale. All comments received within the allowed time, will be reviewed by the Field Office Manager, who may sustain, vacate, or modify this realty action. In the absence of any adverse comments, this realty action becomes the final determination of the Department of the Interior.

Dated: August 20, 2002.
Joel E. Farrell,
Assistant Field Manager for Resources.

[FR Doc. 02-23192 Filed 9-11-02; 8:45 am]

BILLING CODE 4310-VB-M